DEPARTMENT OF THE INTERIOR

[FWS-R4-ES-2019-N027; FVHC98220410150-XXX-FF04H00000]

Deepwater Horizon Oil Spill Final Phase 2 Restoration Plan/Environmental Assessment #1.1: Queen Bess Island Restoration and Finding of No Significant Impact; Louisiana Trustee Implementation Group

AGENCY: Department of the Interior.

ACTION: Notice of availability.

SUMMARY: In accordance with the Oil Pollution Act (OPA), the National Environmental Policy Act (NEPA), the Deepwater Horizon Oil Spill Final Programmatic Damage Assessment and Restoration Plan and Final Programmatic Environmental Impact Statement (PDARP/PEIS), Record of Decision, and the Consent Decree, the Federal and State natural resource trustee agencies for the Louisiana Trustee Implementation Group (Louisiana TIG) have prepared a Final Phase 2 Restoration Plan/Environmental Assessment #1.1: Restoration of Queen Bess Island (Phase 2 RP/EA #1.1) and Finding of No Significant Impact (FONSI). The Phase 2 RP/EA #1.1 describes the restoration project design alternatives considered by the Louisiana TIG to continue the process of restoring natural resources and services injured or lost as a result of the Deepwater Horizon oil spill. The purpose of this notice is to inform the public of the availability of the final Phase 2 RP/EA #1.1 and FONSI.

ADDRESSES: Obtaining Documents: You may download the Phase 2 RP/EA #1.1 and FONSI from any of the following websites:

• http://www.gulfspillrestoration.noaa.gov

• https://www.doi.gov/deepwaterhorizon/adminrecord

• http://www.la-dwh.com

Alternatively, you may request a CD of the Phase 2 RP/EA #1.1 and FONSI (see FOR FURTHER INFORMATION CONTACT).

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Louisiana Restoration Area are now selected and implemented by the Louisiana Trustee Implementation Group (TIG). The Louisiana TIG is composed of the following Trustees:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA); and

• State of Louisiana Coastal Protection and Restoration Authority, Oil Spill Coordinator's Office, Department of Environmental Quality, Department of Wildlife and Fisheries, and Department of Natural Resources.

Background

The Final Programmatic Damage Assessment Restoration Plan and Final Programmatic Environmental Impact Statement (Final PDARP/PEIS) provides for TIGs to propose phasing restoration projects across multiple restoration plans. A TIG may propose funding a planning phase (e.g., initial engineering, design, and compliance) in one plan for a conceptual project. This would allow the TIG to develop information needed to fully consider a subsequent implementation phase of that project in a future restoration plan. In 2016, the Louisiana TIG included the Queen Bess Island Restoration Project as a preferred alternative to fund for engineering and design (E&D) in a restoration plan entitled Louisiana Trustee Implementation Group Draft Restoration Plan #1: Restoration of Wetlands, Coastal, and Nearshore Habitats; Habitat Projects on Federally Managed Lands; and Birds (Phase 1 RP #1). After approval, the Queen Bess Island Restoration Project began E&D. The Louisiana TIG then evaluated several design alternatives and prepared a draft Phase 2 RP/EA #1.1.

Notice of availability of the draft Phase 2 RP/EA #1.1 was published on the Louisiana TIG website on December 7, 2018, and in the Federal Register and Louisiana State Register on December 20, 2018 (83 FR 65360, Louisiana Register Volume 44, No. 7). The draft Phase 2 RP/EA #1.1 provided the Louisiana TIG's analysis of design alternatives that would meet the Trustees' goal to replenish and protect living coastal and marine resources under OPA and NEPA, and identified one design alternative that was proposed as preferred for implementation. The Louisiana TIG provided the public a comment period from December 7, 2018, through January 22, 2019. The Louisiana TIG also hosted a public meeting on January 3, 2019, in Baton Rouge to facilitate public review and comment. The Louisiana TIG considered the public comments received, which informed their analysis and decision making, and finalized the Phase 2 RP/EA #1.1. A summary of the public comments received and the Louisiana TIG's responses to those comments are addressed in Section 7 of the Phase 2 RP/EA #1.1.

Overview of the LA TIG Final RP/EA #1.1

The Phase 2 RP/EA #1.1 is being released in accordance with OPA, NRDA regulations found in the Code of Federal Regulations (CFR) at 15 CFR part 990, NEPA, the Consent Decree, and the Final PDARP/PEIS and Record of Decision.

In the Phase 2 RP/EA #1.1 and FONSI, the Louisiana TIG selects one restoration alternative, Design Alternative 2B, for final design and construction for Queen Bess Island restoration, to be funded under the Birds restoration type allocation.

The Louisiana TIG also analyzed one additional design alternative, as well as a no action alternative in the Phase 2 RP/EA #1.1. In accordance with NEPA, as part of the Phase 2 RP/EA #1.1, the Trustees issued a FONSI. The FONSI is available in Appendix E of the Phase 2 RP/EA #1.1.

The Louisiana TIG determined that the restoration project selected for final design and funding will continue the process of restoring the natural resources injured or lost as a result of the Deepwater Horizon oil spill. The total estimated project cost for the selected restoration project is $18,710,000. Additional restoration planning for the Louisiana Restoration Area will continue.

Administrative Record

The documents comprising the Administrative Record for the Phase 2 RP/EA #1.1 can be viewed electronically at http://www.doi.gov/deepwaterhorizon/adminrecord.

Authority

The authority of this action is the Oil Pollution Act of 1990 (33 U.S.C. 2701 et seq.) and its implementing Natural Resource Damage Assessment regulations found at 15 CFR part 990 and the National Environmental Policy Act of 1969 (42 U.S.C. 4321 et seq.).

Mary Josie Blanchard,
Director of Gulf of Mexico Restoration, Department of the Interior.

[FR Doc. 2019-05378 Filed 3-20-19; 8:45 am]

BILLING CODE 4333-15-P